NUCLEAR REGULATORY COMMISSION

[NRC-2013-0216]

U.S. Nuclear Regulatory Commission Planned for Monitoring Activities for the Saltstone Disposal Facility at the Savannah River Site, Revision 1

AGENCY: Nuclear Regulatory Commission.

ACTION: Notice of issuance; availability.

SUMMARY: The U.S. Nuclear Regulatory Commission (NRC) is announcing the availability of “U.S. Nuclear Regulatory Commission Plan for Monitoring Disposal Actions Taken by the U.S. Department of Energy at the Savannah River Site Saltstone Disposal Facility in Accordance With the National Defense Authorization Act for Fiscal Year 2005, Revision 1,” (NDAA) dated September 2013.

ADDRESSES: Please refer to Docket ID NRC-2013-0216 when contacting the NRC about the availability of information regarding this document. You may access publicly-available information related to this action by the following methods:

• Federal Rulemaking Web site: Go to http://www.regulations.gov and search for Docket ID NRC-2013-0216. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Salstone Disposal Facility Monitoring Plan, Revision 1, is available in ADAMS under Accession No. ML13100A113. The letter to Mr. Mark A. Gilbertson, (DOE) is also in ADAMS under Accession No. ML13100A081.

• NRC's Public Document Room (PDR): You may examine and purchase copies of public documents at the NRC's PDR, Room O1-F21, One White Flint North, 11555 Rockville Pike, Rockville, Maryland 20852.

FOR FURTHER INFORMATION CONTACT: Harry Felsher, Office of Federal and State Materials and Environmental Management Programs, U.S. Nuclear Regulatory Commission, Washington, DC 20555-0001; telephone: 301-415-6559; and email: Harry.Felsher@nrc.gov.

SUPPLEMENTARY INFORMATION: The document describes the NRC staff's planned activities in carrying out its responsibilities for monitoring DOE's waste disposal activities at the Saltstone Disposal Facility (SDF) at the Savannah River Site, in accordance with the NDAA for Fiscal Year 2005. The NRC staff developed a Technical Evaluation Report (TER) for the SDF in December 2005, as part of the NRC consultation with DOE in its waste determination. In the 2005 TER, NRC documented the results of its review and concluded that there was reasonable assurance that the applicable criteria of NDAA could be met, provided certain assumptions made in the DOE analyses were verified via monitoring. Taking into consideration the assumptions, conclusions, and recommendations in the 2005 TER, DOE issued the final waste determination in January 2006. In 2007, NRC issued Revision 0 of the SDF Monitoring Plan based on the 2005 NRC TER and the DOE final waste determination. In 2009, DOE submitted a revised performance assessment to NRC. After its review, NRC issued a new TER in April 2012. In the 2012 TER, NRC concluded that it did not have reasonable assurance that salt waste disposal at the SDF met the performance objectives in 10 CFR Part 61, specifically § 61.41. In the issued document, the NRC staff identified specific areas that it intends to monitor in assessing DOE's compliance with the performance objectives. The document describes what the NRC staff intends to do in each of those areas, as well as other activities that will be performed to allow a complete assessment of compliance with the performance objectives. In finalizing the document, the NRC staff considered comments and input from the State of South Carolina.

Dated at Rockville, Maryland, this 11th day of September, 2013.
For the U.S. Nuclear Regulatory Commission.
Aby S. Mohseni,
Deputy Director, Environmental Protection and Performance Assessment Directorate, Division of Waste Management and Environmental Protection, Office of Federal and State Materials and Environmental Management Programs.

[FR Doc. 2013-22802 Filed 9-18-13; 8:45 am]

BILLING CODE 7590-01-P